DEPARTMENT OF AGRICULTURE

Rural Business-Cooperative Service

7 CFR Part 4280

RIN 0570-AA71

Rural Microentrepreneur Assistance Program; Correction

AGENCY: Rural Business-Cooperative Service, USDA.

ACTION: Correcting amendments.

SUMMARY: The Agency published an Interim Rule in the Federal Register of May 28, 2010, [75 FR 30114] establishing a technical and financial assistance program for qualified microenterprise development organizations to support microentrepreneurs in the development and ongoing success of rural microenterprises. This document has an incorrect definition of “nonprofit entity,” contains an incomplete definition of “rural or rural area,” and has an incorrect cross-reference.

DATES: Effective July 19, 2010.

FOR FURTHER INFORMATION CONTACT: Requests for additional information should be directed to Lori Washington, (202) 720-9815.

SUPPLEMENTARY INFORMATION:

Need for Correction

As published, the interim rule contains two incorrect definitions and an incorrect cross-reference.

The definition of “nonprofit entity” refers to a “private entity chartered as a nonprofit entity under State law.” By including reference to “private entity,” this definition restricts nonprofits from being eligible applicants if they are not private nonprofits. It was not the intention of the Agency to restrict eligible nonprofits to only private entities. Therefore, the Agency is deleting the word “private” for the definition on nonprofit entity.

The 2008 Farm Bill, which authorizes the Rural Microentrepreneur Assistance Program (RMAP), made several revisions to the rural area definition for programs administered under the Consolidated Farm and Rural Development Act. The definition of “rural or rural area” inadvertently excludes mandatory language from the 2008 Farm Bill “rural area” definition. Therefore, the Agency is revising this definition to be consistent with the 2008 Farm Bill.

In § 4280.315(d)(5) of the interim rule, there is an incorrect cross-reference to § 4280.316(e). The correct cross-reference is § 4280.316(d).

List of Subjects in 7 CFR Part 4280

Business programs, Grant programs, Loan programs, Microenterprise development organization, Microentrepreneur, Rural areas, Rural development, Small business.

Accordingly, 7 CFR part 4280 is corrected by making the following correcting amendments:

PART 4280—LOANS AND GRANTS

1. The authority citation for part 4280 continues to read as follows:

Authority: 7 U.S.C. 1989(a), 7 U.S.C. 2009s.

Subpart D—Rural Microentrepreneur Assistance Program

2. Section 4280.302(a) is corrected in the definition for “Nonprofit entity” by removing the words “A private” and adding in their place the word “An”, and the definition for “Rural or rural area” is revised to read as follows:

§ 4280.302 Definitions and abbreviations.

(a) * * *

* * * * *

Rural or rural area. Any area of a State not in a city or town that has a population of more than 50,000 inhabitants, according to the latest decennial census of the United States, and the contiguous and adjacent urbanized area, and any area that has been determined to be “rural in character” by the Under Secretary for Rural Development, or as otherwise identified in this definition. In determining which census blocks in an urbanized area are not in a rural area, the Agency will exclude any cluster of census blocks that would otherwise be considered not in a Rural Area only because the cluster is adjacent to not more than two census blocks that are otherwise considered not in a rural area under this definition.

(i) For the purposes of this definition, cities and towns are incorporated population centers with definite boundaries, local self government, and legal powers set forth in a charter granted by the State.

(ii) For the Commonwealth of Puerto Rico, the island is considered rural and eligible for Business Programs assistance, except for the San Juan Census Designated Place (CDP) and any other CDP with greater than 50,000 inhabitants. CDPs with greater than 50,000 inhabitants, other than the San Juan CDP, may be determined to be eligible if they are “not urban in character.” Any such requests must be forwarded to the National Office, Business and Industry Division, with supporting documentation as to why the area is “not urban in character” for review, analysis, and decision by the Rural Development Under Secretary.

(iii) For the State of Hawaii, all areas within the State are considered rural and eligible for Business Programs assistance, except for the Honolulu CDP within the County of Honolulu.

(iv) For the purpose of defining a rural area in the Republic of Palau, the Federated States of Micronesia, and the Republic of the Marshall Islands, the Agency shall determine what constitutes rural and rural area based on available population data.

(v) On the petition of a unit of local government in an area described in paragraph (v)(A) or (B) of this definition, or on the initiative of the Under Secretary for Rural Development, the Under Secretary may determine that part of an area described in paragraph (v)(A) or (B) of this definition, is a rural area for the purposes of this paragraph, if the Under Secretary finds that the part is “rural in character”, as determined by the Under Secretary.

(A) An urbanized area that has two points on its boundary that are at least 40 miles apart, which is not contiguous or adjacent to a city or town that has a population of greater than 150,000 inhabitants or the urbanized area of such a city or town; or

(B) An urbanized area contiguous and adjacent to a city or town of greater than 50,000 population that is within one-quarter mile of a rural area.

* * * * *

§ 4280.315 [Corrected]

3. In § 4280.315(d)(5), remove the reference “§ 4280.316(e)” and add, in its place, “§ 4280.316(d).”

Dated: July 13, 2010.
Judith A. Canales,
Administrator, Rural Business-Cooperative Service.

[FR Doc. 2010-17480 Filed 7-16-10; 8:45 am]

BILLING CODE 3410-XY-P